Title 3—

The President

Proclamation 10266 of September 30, 2021

Cybersecurity Awareness Month, 2021

By the President of the United States of America

A Proclamation

Our Nation is under a constant and ever-increasing threat from malicious cyber actors. Ransomware attacks have disrupted hospitals, schools, police departments, fuel pipelines, food suppliers, and small businesses—delaying essential services and putting the lives and livelihoods of Americans at risk. Any disruption, corruption, or dysfunction of our vital infrastructure can have a debilitating effect on national and economic security, public health, and our everyday safety.

Since its inception, Cybersecurity Awareness Month has elevated the central role that cybersecurity plays in our national security and economy. This Cybersecurity Awareness Month, we recommit to doing our part to secure and protect our internet-connected devices, technology, and networks from cyber threats at work, home, school, and anywhere else we connect online. I encourage all Americans to responsibly protect their sensitive data and improve their cybersecurity awareness by embracing this year's theme: “Do Your Part. Be Cyber Smart.”

My Administration has worked to bolster the defense of our systems and protect the Federal Government's information and communications infrastructure. Earlier this year, I signed an Executive Order to modernize and improve the security of our technology, including areas like software security, information sharing, and Federal network modernization. The Executive Order also directs the Federal Government to only acquire products that meet strong cybersecurity standards—which, by spurring technology companies to raise the bar, will ultimately improve the security of those products for all Americans.

The reality is that most of our Nation's critical infrastructure—from transportation lines to energy suppliers to other vital fields—is owned and operated by the private sector. Therefore, the security of our critical infrastructure depends on Federal, State, local, Tribal, and territorial coordination with infrastructure owners and operators to achieve greater strength and security. My Administration is working in close coordination with the private sector. Earlier this year, we began to establish strong cybersecurity goals that outline our expectations for owners and operators of America's critical infrastructure. We also launched a 100-day initiative to improve cybersecurity across the electric sector. That initiative has already resulted in more than 150 utilities that serve 90 million Americans deploying or committing to deploy cybersecurity technology—and we are now in the process of extending that initiative to gas pipelines. My Administration is also working with the international community to elevate the profile of cybersecurity as a matter of global security interest.

We recently convened a meeting with corporate, nonprofit, and educational leaders on how to protect their industries and our infrastructure. We are working closely with the private sector to share information, strengthen cybersecurity practices, and deploy technologies that increase resilience against cyberattacks. My Administration has also launched StopRansomware.gov to provide a one-stop resource for Americans to learn how to avoid ransomware and the steps to take if their computer becomes compromised.

During Cybersecurity Awareness Month, I ask everyone to “Do Your Part. Be Cyber Smart.” All Americans can help increase awareness on cybersecurity best practices to reduce cyber risks. Whether you are at home, school, or the office—a few simple steps can help keep you and your online data safe and secure. By limiting the amount of personal information shared online, regularly updating devices and software, and using complex passwords and multifactor authentication methods, our entire Nation will be more resilient against the constant threat of malicious cyber actors.

NOW, THEREFORE, I, JOSEPH R. BIDEN JR., President of the United States of America, by virtue of the authority vested in me by the Constitution and the laws of the United States, do hereby proclaim October 2021 as Cybersecurity Awareness Month. Through events, training, and education, I call upon the people, businesses, and institutions of the United States to recognize the importance of cybersecurity, to take action to better protect yourselves against cyber threats, and to observe Cybersecurity Awareness Month in support of our national security and resilience.

IN WITNESS WHEREOF, I have hereunto set my hand this thirtieth day of September, in the year of our Lord two thousand twenty-one, and of the Independence of the United States of America the two hundred and forty-sixth.

[FR Doc. 2021-21881

Filed 10-4-21; 11:15 am]

Billing code 3395-F2-P